DEPARTMENT OF AGRICULTURE

Forest Service

Superior National Forest, Laurentian Ranger District; Minnesota; Tracks Project Environmental Impact Statement

AGENCY: Forest Service, USDA.

ACTION: Notice of Intent to Prepare an Environmental Impact Statement.

SUMMARY: The Department of Agriculture, Forest Service, will prepare an environmental impact statement (EIS) for the Tracks Project. The proposed activities would manage forest vegetation composition, age class, and spatial patterns. Proposed activities also address the transportation system associated with vegetation activities and long-term Federal and non-federal access needs.

The project area encompasses nearly 78,000 acres of National Forest System land.

The proposed action would create young forest through timber harvest; improve stand structure and within-stand diversity with harvests such as thinning; and restore stand conditions without harvest. Managing the minimum road system needed for long-term vegetation management would involve adding and decommissioning miles of road. The proposed project is located on the Laurentian Ranger District, Aurora, Minnesota.

DATES: Comments concerning the scope of the analysis must be received by August 31, 2009. The draft environmental impact statement is expected in late 2009 and the final environmental impact statement is expected in spring 2010.

ADDRESSES: Send written comments to Stephen J. Kuennen, Laurentian District Ranger, Tracks Project, 318 Forestry Road, Aurora, MN 55705. Send electronic comments to comments-eastern-superior-laurentian@fs.fed.us. Comments may also be sent via facsimile to (218) 229-8821.

It is important that reviewers provide their comments at such times and in such a way that they are useful to the Agency's preparation of the EIS. Therefore, comments should be provided prior to the close of the comment period and should clearly articulate the reviewer's concerns and contentions. The submission of timely and specific comments can affect a reviewer's ability to participate in subsequent administrative review or judicial review.

Comments received in response to this solicitation, including names and addresses of those who comment, will be part of the public record for this proposed action. Comments submitted anonymously will be accepted and considered; however, anonymous comments will not provide the respondent with standing to participate in subsequent administrative review or judicial review.

FOR FURTHER INFORMATION CONTACT: Susan Duffy, Tracks Project Coordinator at 1393 Hy 169, Ely, MN 55731, telephone (218) 365-2097.

SUPPLEMENTARY INFORMATION:

Purpose and Need for Action

The primary purpose of the Tracks Project is to maintain and promote native vegetation communities that are diverse, productive, healthy, and resilient by moving the vegetation towards the desired vegetation and landscape ecosystem conditions described in the Superior National Forest Land and Resource Management Plan (Forest Plan). Forest Plan direction for the transportation system is also part of the project's purpose.

Proposed Action

The proposed action would manage forest vegetation composition, age class, and spatial patterns and the transportation system associated with these activities. Proposed activities include: creating young forest on approximately 5,166 acres, improving stand structure and within-stand diversity on approximately 1,345 acres, and restoring stand conditions through a variety of non-harvest activities such as planting, biomass removal, and conducting prescribed burns to reduce risk of wildfire on approximately 352 acres. Managing the minimum road system needed for long-term vegetation management would involve adding 5.2 miles of system road and decommissioning 11.4 miles of road.

Responsible Official

Stephen J. Kuennen, Laurentian District Ranger, 318 Forestry Road, Aurora, MN 55705.

Nature of Decision To Be Made

An environmental analysis for the Tracks Project will evaluate site-specific issues, consider management alternatives, and analyze the potential effects of the proposed action and alternatives. The scope of the project is limited to decisions concerning activities within the Tracks Project Area that meet the purpose and need, as well as desired conditions. An environmental impact statement will provide the Responsible Official, Stephen J. Kuennen, with the information needed to decide which actions, if any, to approve.

Permits or Licenses Required

Easement or permission to cross non-federal property may be needed to access some treatment units to implement Forest Service activities.

Scoping Process

This notice of intent initiates the scoping process, which guides the development of the environmental impact statement. Written comments will be solicited through a notice that will be sent to the landowners within the Tracks Project area and other interested individuals and organizations.

It is important that reviewers provide their comments at such times and in such manner that they are useful to the agency's preparation of the environmental impact statement. Therefore, comments should be provided prior to the close of the comment period and should clearly articulate the reviewer's concerns and contentions. The submission of timely and specific comments can affect a reviewer's ability to participate in subsequent administrative appeal or judicial review.

Dated: July 20, 2009.
Stephen J. Kuennen,
Laurentian District Ranger.

[FR Doc. E9-17996 Filed 7-30-09; 8:45 am]

BILLING CODE 3410-11-M